DEPARTMENT OF THE INTERIOR

Geological Survey

Information Quality Guidelines Pursuant to Section 515(a) of the Treasury and General Government Appropriations Act for Fiscal Year 2001

AGENCY: Geological Survey, Department of the Interior.

ACTION: Notice of availability of information quality guidelines.

SUMMARY: The U.S. Geological Survey hereby issues Information Quality Guidelines to comply with guidance by the Office of Management and Budget in the Federal Register, Vol. 2, No. 67, dated January 2, 2002 (67 FR 369, January 3, 2002), and re-issued February 22, 2002, Vol. 67, No. 36, page 8452 for implementing Section 515(a) of the Treasury and General Government Appropriations Act for Fiscal Year 2001 (Pub. L. 106-554).

FOR FURTHER INFORMATION CONTACT: Nancy Faries, Geographic Information Office, U.S. Geological Survey, 807 National Center, Reston, VA 20192, telephone (703-648-6879), e-mail InfoQual@usgs.gov. The Information Quality Guidelines may be viewed at www.gov/info_qual/

SUPPLEMENTARY INFORMATION: The U.S. Geological Survey serves the Nation by providing reliable scientific information to: Describe and undestand the Earth; minimize loss of life and property from natural disasters; manage water, biological, energy and mineral resources; and enhance and protect our quality of life.

Dated: September 24, 2002.
Anne Frondorf,
Deputy Geographic Information Officer.

[FR Doc. 02-25207 Filed 10-3-02; 8:45 am]

BILLING CODE 4310-Y7-M